DEPARTMENT OF HEALTH AND HUMAN SERVICES

Substance Abuse and Mental Health Services Administration

Fiscal Year (FY) 2023 Notice of Supplemental Funding Opportunity

AGENCY: Substance Abuse and Mental Health Services Administration, Department of Health and Human Services (HHS).

ACTION: Notice of intent to award supplemental funding.

SUMMARY: This notice is to inform the public that the Substance Abuse and Mental Health Services Administration (SAMHSA) is supporting administrative supplements in scope of the parent award for the 11 eligible grant recipients funded in FY 2019 under the Prevention Technology Transfer Centers (PTTCs) Cooperative Agreements, Notice of Funding Opportunity (NOFO) SP-19-001. The PTTC National Coordinating Center may receive up to $493,966 and the 10 PTTC Regional Centers may receive up to $600,000 each for a total of $6,492,160. These recipients have a project end date of September 29, 2023. The supplemental funding will extend the project period by one-year and will continue providing training and technical assistance services and quality improvement activities to the substance abuse prevention workforce including professionals and pre-professionals, organizations, and others in the prevention community.

FOR FURTHER INFORMATION CONTACT: Thia Walker, DrPH., Public Health Advisor, Substance Abuse and Mental Health Services Administration, 5600 Fishers Lane, Rockville, MD 20857, telephone 240-276-1835; email: Thia.Walker@samhsa.hhs.gov.

SUPPLEMENTARY INFORMATION:

Funding Opportunity Title: FY 2019 Prevention Technology Transfer Centers Cooperative Agreements SP-19-001.

Assistance Listing Number: 93.243.

Authority: Section 509 of the Public Health Service Act, as amended.

Justification: Eligibility for this supplemental funding is limited to the ten PTTC Regional Centers and PTTC National Coordinating Office funded under the PTTC Cooperative Agreements funding announcement SP-19-001, as they are currently providing nationally- and regionally-focused training and technical assistance services and quality improvement activities to the substance abuse prevention workforce including professionals and pre-professionals, organizations, and others in the prevention community, which will continue to be funded through this supplement.

This is not a formal request for application. Assistance will only be provided to the 10 PTTC Regional Centers and PTTC National Coordinating Center recipients based on the receipt of a satisfactory application and associated budget that is approved by a review group.

Dated: March 31, 2023.
Carlos Castillo,
ECSB Acting Branch Chief, SAMHSA.

[FR Doc. 2023-07130 Filed 4-5-23; 8:45 am]

BILLING CODE 4162-20-P